DEPARTMENT OF TRANSPORTATION

Federal Railroad Administration

Petition for Waiver of Compliance

In accordance with Part 219 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Indiana Northeastern Railroad Company

[Docket Number FRA-2001-9014]

The Indiana Northeastern Railroad Company (IN) seeks a permanent waiver of compliance, docket number FRA-2001-9014, from the requirements of the Control of Alcohol and Drug Use, 49 CFR Part 219, Subpart G, which requires the railroad to have a random alcohol and drug testing program. In seeks a waiver for total relief from the requirement to have a random alcohol and drug testing program because of the serious financial burdens the costs of both the training and the hours involved to implement this program will place on the railroad operation as a small entity.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-9014) and must be submitted to the Docket Clerk, DOT Central Docket Management Facility, Room PI-401, Washington, DC, 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on May 7, 2001.
Grady C. Cothen, Jr.,
Deputy Associate Administrator for Safety Standards, and Program Development.

[FR Doc. 01-11947 Filed 5-10-01; 8:45 am]

BILLING CODE 4910-06-P